DEPARTMENT OF COMMERCE

Submission for OMB Review; Comment Request

The Department of Commerce will submit to the Office of Management and Budget (OMB) for clearance the following proposal for collection of information under the provisions of the Paperwork Reduction Act (44 U.S.C. chapter 35).

Agency: National Institute of Standards and Technology (NIST).

Title: NIST, Hollings Manufacturing Extension Partnership (HMEP) Program Application Requirements.

OMB Control Number: 0693-0056.

Form Number(s): None.

Type of Request: Regular submission (extension of a currently approved collection).

Number of Respondents: 12.

Average Hours per Response: 112.

Burden Hours: 1,344.

Needs and Uses: The object of NIST Hollings Manufacturing Extension Partnership (HMEP) Program is to enhance productivity, technological performance, and strengthen the global competitiveness of small- and medium-sized U.S.-based manufacturing firms.

Affected Public: Not-for-profit institutions; State or local government; consortia of not-for-profit institutions.

Frequency: Annually.

Respondent's Obligation: Required to obtain benefits.

OMB Desk Officer: Jasmeet Seehra, (202) 395-3123.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to Jasmeet Seehra, OMB Desk Officer, Fax number (202) 395-5167, or via the Internet at Jasmeet_K_Seehra@omb.eop.gov.

Gwellnar Banks,
Management Analyst, Office of the Chief Information Officer.

[FR Doc. 2012-29572 Filed 12-6-12; 8:45 am]

BILLING CODE 3510-13-P